DEPARTMENT OF ENERGY

Federal Energy Regulatory Commission

[Project No. 1417-277]

Central Nebraska Public Power and Irrigation District; Notice of Availability of Environmental Assessment

In accordance with the National Environmental Policy Act of 1969 and the Federal Energy Regulatory Commission's (Commission) regulations, 18 CFR part 380, the Office of Energy Projects has reviewed the application to amend the project boundary for the Kingsley Dam Hydroelectric Project No. 1417 (project). The project is located on the North Platte and Platte Rivers in Garden, Keith, Lincoln, Dawson, and Gosper counties, in south-central Nebraska. Commission staff has prepared an Environmental Assessment (EA) for the proposed action.

The EA contains the staff's analysis of the potential environmental effects of the proposed action and concludes that approving the proposed project boundary amendment for the project, Commission staff's recommended measures, would not constitute a major Federal action significantly affecting the quality of the human environment.

The Commission provides all interested persons with an opportunity to view and/or print the EA via the internet through the Commission's Home Page (http://www.ferc.gov/), using the “eLibrary” link. Enter docket number (P-1417), to access the document. For assistance, contact FERC Online Support at FERCOnlineSupport@ferc.gov, or at (866) 208-3676 (toll-free), or (202) 502-8659 (TTY).

You may also register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595, or OPP@ferc.gov.

Any comments must be filed by May 13, 2024.

The Commission strongly encourages electronic filing. Please file comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support. In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. The first page of any filing should include docket number P-1417-277.

For further information, contact Jon Cofrancesco at 202-502-8951 or jon.cofrancesco@ferc.gov.

Dated: April 12, 2024.
Debbie-Anne A. Reese,
Acting Secretary.

[FR Doc. 2024-08317 Filed 4-17-24; 8:45 am]

BILLING CODE 6717-01-P